NATIONAL TRANSPORTATION SAFETY BOARD

Investigative Hearing

On October 2, 2016, about 1154 Alaska daylight time, a turbine-powered Cessna 208B Grand Caravan airplane, N208SD, sustained substantial damage after impacting steep, mountainous, rocky terrain about 12 miles northwest of Togiak, Alaska. The airplane was being operated as flight 3153 by Hageland Aviation Services, Inc., dba Ravn Connect, Anchorage, Alaska, as a scheduled commuter flight under the provisions of 14 Code of Federal Regulations (CFR) Part 135 and visual flight rules (VFR). All three people on board (two commercial pilots and one passenger) sustained fatal injuries. Visual meteorological conditions prevailed at the Togiak Airport, Togiak, and company flight following procedures were in effect. Flight 3153 departed Quinhagak, Alaska, at 1133, destined for Togiak.

Parties to hearing are the Federal Aviation Administration (FAA), Hageland Aviation Services, Honeywell International, and the Medallion Foundation.

Order of Proceedings

1. Opening Statement by the Chairman of the Board of Inquiry

2. Introduction of the Board of Inquiry and Technical Panel

3. Introduction of the Parties to the Hearing

4. Introduction of Exhibits by Hearing Officer

5. Overview of the incident and the investigation by Investigator-In-Charge

6. Calling of Witnesses by Hearing Officer

7. Closing Statement by the Chairman of the Board of Inquiry

The hearing is scheduled to begin at 8 a.m. (Alaska Daylight Time), Aug. 17, 2017 in the Mid-Deck Ballroom of the Captain Cook Hotel, 939 W. 5th Ave., Anchorage, Alaska. Media planning to cover the investigative hearing are asked to contact the NTSB's chief of media relations, Chris O'Neil at 202-314-6133 or Christopher.oneil@ntsb.gov.

The investigative hearing will be transmitted live via the NTSB's Web site at http://www.capitolconnection.net/capcon/ntsb/ntsb.htm. A link for webcast will be available shortly before the start of the hearing. An archival video of the hearing will be available via the Web site for 30 days after the hearing.

NTSB Investigative Hearing Officer: Mr. Shaun Williams—shaun.williams@ntsb.gov.

Dated: Wednesday, July 26, 2017.
Candi R. Bing,
Federal Register Liaison Officer.

[FR Doc. 2017-16091 Filed 7-31-17; 8:45 am]

BILLING CODE 7533-01-P